FARM CREDIT ADMINISTRATION

12 CFR Parts 614, 620, and 630

RIN 3052-AC07

Loan Policies and Operations; Disclosure to Shareholders; Disclosure to Investors in Systemwide and Consolidated Bank Debt Obligations of the Farm Credit System

AGENCY: Farm Credit Administration.

ACTION: Proposed rule; reopening of comment period.

SUMMARY: The Farm Credit Administration (FCA, agency, or we) is reopening the comment period on the proposed rule to amend the agency's regulations governing the Farm Credit System's (System) mission to provide sound and constructive credit and services to young, beginning, and small farmers and ranchers, and producers or harvesters of aquatic products (YBS farmers and ranchers or YBS). This additional comment period will give interested parties more time to consider the issues raised in the proposed rule and respond.

DATES: Please send your comments to the FCA by January 20, 2004.

ADDRESSES: We encourage you to send comments by electronic mail to “reg-comm@fca.gov” or through the Pending Regulations section of FCA's Web site, “http://www.fca.gov.” You may also send comments to S. Robert Coleman, Director, Regulation and Policy Division, Office of Policy and Analysis, Farm Credit Administration, 1501 Farm Credit Drive, McLean, Virginia 22102-5090 or by facsimile to (703) 734-5784. You may review copies of all comments we receive at our office in McLean, Virginia.

FOR FURTHER INFORMATION CONTACT:

Robert E. Donnelly, Senior Policy Analyst, Office of Policy and Analysis, Farm Credit Administration, McLean, VA 22102-5090, (703) 883-4498, TTY (703) 883-4434

or

Wendy R. Laguarda, Senior Counsel, Office of General Counsel, Farm Credit Administration, McLean, VA 22102-5090, (703) 883-4020, TTY (703) 883-4020.

SUPPLEMENTARY INFORMATION: On September 15, 2003, we published a proposed rule in the Federal Register seeking public comment on amendments to regulations governing the System's mission to provide sound and constructive credit and services to young, beginning, and small farmers and ranchers, and producers or harvesters of aquatic products. The comment period expired on November 14, 2003. See 68 FR 53915, September 15, 2003. We have received a request that the FCA provide an additional 60 days to comment. In response to this request, we are reopening the comment period until January 20, 2004, so all interested parties have more time to respond. The FCA supports public involvement and participation in its regulatory and policy process and invites all interested parties to review and provide comments on the proposed rule.

Dated: November 14, 2003.
James M. Morris,
Acting Secretary, Farm Credit Administration Board.

[FR Doc. 03-28969 Filed 11-19-03; 8:45 am]

BILLING CODE 6705-01-P